DEPARTMENT OF THE INTERIOR

Bureau of Land Management

[14X LLUT980300-L11100000-PH0000-24-1A]

Cancellation of Utah Resource Advisory Council Meeting/Conference Call

AGENCY: Bureau of Land Management, Interior.

ACTION: Notice of cancellation of meeting/conference call.

SUMMARY: The Jan. 23, 2014, Utah Resource Advisory Council Meeting/Conference Call is cancelled because a quorum cannot be met. If you have any questions, please contact Sherry Foot, Special Programs Coordinator, Bureau of Land Management, Utah State Office, Suite 500, 440 West 200 South, Salt Lake City, Utah 84101; phone (801) 539-4195; or, sfoot@blm.gov.

Authority: 43 CFR 1784.4-1.

Jenna Whitlock,
Associate State Director.

[FR Doc. 2014-01911 Filed 1-29-14; 8:45 am]

BILLING CODE 4310-DQ-P